NUCLEAR REGULATORY COMMISSION

[Docket No. 50-456 and 50-457; NRC-2018-0277]

Exelon Generation Company, LLC; Braidwood Station Units 1 and 2

AGENCY: Nuclear Regulatory Commission.

ACTION: License amendment application; withdrawal by applicant.

SUMMARY: The U.S. Nuclear Regulatory Commission (NRC) has granted the request of Exelon Generation Company, LLC to withdraw its application dated July 19, 2018, as supplemented by letters dated October 19, 2018 and May 30, 2019, for proposed amendments to Renewed Facility Operating License Nos. NPF-72 and NPF-77. The proposed amendment would have modified the renewed facility operating licenses to utilize TVEL TVS-K lead test assemblies.

DATES: September 30, 2019.

ADDRESSES: Please refer to Docket ID NRC-2018-0277 when contacting the NRC about the availability of information regarding this document. You may obtain publicly-available information related to this document using any of the following methods:

• Federal Rulemaking website: Go to https://www.regulations.gov and search for Docket ID NRC-2018-0277. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Joel S. Wiebe, Office of Nuclear Reactor Regulation, U.S. Nuclear Regulatory Commission, Washington, DC 20555-0001; telephone: 301-415-6606, email: Joel.Wiebe@nrc.gov.

SUPPLEMENTARY INFORMATION: The NRC has granted the request of Exelon Generation Company, LLC (the licensee) to withdraw its July 19, 2018, application (ADAMS Accession No. ML18204A169), as supplemented by letters dated October 19, 2018 (ADAMS Accession No. ML18296A288), and May 30, 2019 (ADAMS Accession No. Ml19150A428), for proposed amendments to Renewed Facility Operating License Nos. NPF-72 and NPF-77 for the Braidwood Station, Units 1 and 2, located in Dewitt County, Illinois.

The proposed amendments would have added new License Conditions to Appendix C, “Additional Conditions,” of the Braidwood Station Renewed Operating Licenses for Units 1 and 2, that authorize the use of up to eight Joint Stock Company TVEL (Fuel Company of Rosatom) TVS-K lead test assemblies in non-limiting reactor core locations for operation and evaluation.

The NRC's initial proposed finding of no significant hazards consideration was published in the Federal Register dated January 8, 2019 (84 FR 91).

Dated at Rockville, Maryland, this 25th day of September, 2019.
For the Nuclear Regulatory Commission.
Joel S. Wiebe,
Senior Project Manager, Plant Licensing Branch III, Division of Operating Reactor Licensing, Office of Nuclear Reactor Regulation.

[FR Doc. 2019-21110 Filed 9-27-19; 8:45 am]

BILLING CODE 7590-01-P